SMALL BUSINESS ADMINISTRATION

[Disaster Declaration # 11043]

Montana Disaster # MT-00024 Declaration of Economic Injury

AGENCY: U.S. Small Business Administration.

ACTION: Notice.

SUMMARY: This is a notice of an Economic Injury Disaster Loan (EIDL) declaration for the state of Montana, dated 09/25/2007.

Incident: Wildland Fires.

Incident Period: 07/21/2007 and continuing.

Effective Date: 09/25/2007.

EIDL Loan Application Deadline Date: 06/25/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties:

Lewis and Clark, Missoula.

Contiguous Counties:

Montana: Broadwater, Cascade, Flathead, Granite, Jefferson, Lake, Meagher, Mineral, Powell, Ravalli, Sanders, Teton.

Idaho: Clearwater, Idaho.

The Interest Rate is: 4.000.

The number assigned to this disaster for economic injury is: 110430.

The States which received an EIDL Declaration # are Montana, Idaho.

(Catalog of Federal Domestic Assistance Number 59002)

Steven C. Preston,
Administrator.

[FR Doc. E7-19397 Filed 10-1-07; 8:45 am]

BILLING CODE 8025-01-P